INTERNATIONAL TRADE COMMISSION

[Investigation Nos. 701-TA-695-698 and 731-TA-1643-1657 (Preliminary)]

Aluminum Extrusions From China, Colombia, Dominican Republic, Ecuador, India, Indonesia, Italy, Malaysia, Mexico, South Korea, Taiwan, Thailand, Turkey, United Arab Emirates, and Vietnam

Determinations

On the basis of the record ¹ developed in the subject investigations, the United States International Trade Commission (“Commission”) determines, pursuant to the Tariff Act of 1930 (“the Act”), that there is a reasonable indication that an industry in the United States is materially injured by reason of imports of aluminum extrusions from China, Colombia, Ecuador, India, Indonesia, Italy, Malaysia, Mexico, South Korea, Taiwan, Thailand, Turkey, United Arab Emirates and Vietnam provided for in subheadings 7604.10.10, 7604.10.30, 7604.10.50, 7604.21.00, 7604.29.10, 7604.29.30, 7604.29.50, 7608.10.00, 7608.20.00, 7609.00.00, 7610.10.00, and 7610.90.00 of the Harmonized Tariff Schedule of the United States, that are alleged to be sold in the United States at less than fair value (“LTFV”) and to be subsidized by the governments of China, Indonesia, and Mexico. The Commission also determines that there is a reasonable indication that an industry in the United States is threatened with material injury by reason of imports of aluminum extrusions from Turkey that are alleged to be subsidized by the government of Turkey.²

¹ The record is defined in § 207.2(f) of the Commission's Rules of Practice and Procedure (19 CFR 207.2(f)).

² 88 FR 74421 and 88 FR 74433 (October 31, 2023).

The Commission further finds that imports of aluminum extrusions from the Dominican Republic that are allegedly sold in the United States at LTFV are negligible pursuant to section 771(24) of the Act, and its investigation with regard to imports from the Dominican Republic is thereby terminated pursuant to section 733(a)(1) of the Act.

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On October 4, 2023, the U.S. Aluminum Extruders Coalition (consisting of Alexandria Extrusion Company, Alexandria, Minnesota; APEL Extrusions Inc., Coburg, Oregon; Bonnell Aluminum, Newnan, Georgia; Brazeway, Adrian, Michigan; Custom Aluminum Products, South Elgin, Illinois; Extrudex Aluminum, North Jackson, Ohio; International Extrusions, Garden City, Michigan; Jordan Aluminum Company, Memphis, Tennessee; M-D Building Products, Oklahoma City, Oklahoma; Merit Aluminum, Corona, California; MI Metals, Oldsmar, Florida; Pennex Aluminum, Wellsville, Pennsylvania; Tower Extrusions, Olney, Texas; and Western Extrusions, Carrollton, Texas) and the United Steel, Paper and Forestry, Rubber, Manufacturing, Energy, Allied Industrial and Service Workers International Union, Pittsburgh, Pennsylvania filed petitions with the Commission and Commerce, alleging that an industry in the United States is materially injured or threatened with material injury by reason of subsidized imports of aluminum extrusions from China, Indonesia, Mexico, and Turkey and LTFV imports of aluminum extrusions from China, Colombia, Dominican Republic, Ecuador, India, Indonesia, Italy, Malaysia, Mexico, South Korea, Taiwan, Thailand, Turkey, United Arab Emirates and Vietnam. Accordingly, effective October 4, 2023, the Commission instituted countervailing duty investigation Nos. 701‐TA‐695-698 and antidumping duty investigation Nos. 731‐TA‐1643-1657 (Preliminary).

Notice of the institution of the Commission's investigations and of a public conference to be held in connection therewith was given by posting copies of the notice in the Office of the Secretary, U.S. International Trade Commission, Washington, DC, and by publishing the notice in the Federal Register of October 13, 2023 (88 FR 71020). The Commission conducted its conference on October 25, 2023. All persons who requested the opportunity were permitted to participate.

The Commission made these determinations pursuant to §§ 703(a) and 733(a) of the Act (19 U.S.C. 1671b(a) and 1673b(a)). It completed and filed its determinations in these investigations on November 20, 2023. The views of the Commission are contained in USITC Publication 5477 (November 2023), entitled Aluminum Extrusions from China, Colombia, Dominican Republic, Ecuador, India, Indonesia, Italy, Malaysia, Mexico, South Korea, Taiwan, Thailand, Turkey, United Arab Emirates, and Vietnam: Investigation Nos. 701-TA-695-698 and 731-TA-1643-1657 (Preliminary).

By order of the Commission.
Issued: November 21, 2023.
Lisa Barton,
Secretary to the Commission.

[FR Doc. 2023-26057 Filed 11-24-23; 8:45 am]

BILLING CODE 7020-02-P